DEPARTMENT OF COMMERCE

National Oceanic and Atmospheric Administration

[I.D. 031207D]

Pacific Halibut Fishery; Guideline Harvest Levels for the Guided Recreational Halibut Fishery

AGENCY: National Marine Fisheries Service (NMFS), National Oceanic and Atmospheric Administration (NOAA), Commerce.

ACTION: Notice of guideline harvest level.

SUMMARY: NMFS provides notice of the guideline harvest levels (GHL) for the guided sport halibut fishery (charter fishery) in the International Pacific Halibut Commission (IPHC) regulatory areas 2C and 3A. The GHLs provide a benchmark harvest level for participants in the charter fishery. This notice is necessary to meet the management and regulatory requirements for the GHLs and to inform the public about the 2007 GHLs for the charter fishery.

DATES: The GHLs are effective beginning 1200 h, Alaska local time (A.l.t.), February 1, 2007, and will close at 2400 h, A.l.t., December 31, 2007. This period is specified by the IPHC as the sport fishing season in all waters of Alaska.

FOR FURTHER INFORMATION CONTACT: Jason Gasper, 907-586-7228, or email at jason.gasper@noaa.gov.

SUPPLEMENTARY INFORMATION: NMFS implemented a final rule to establish GHLs in IPHC regulatory areas 2C and 3A for the harvest of Pacific halibut (Hippoglosses stenolepis) by the charter fishery on August 8, 2003 (68 FR 47256). The GHLs are intended to serve as a benchmark harvest level for participants in the charter fishery.

This announcement is consistent with 50 CFR 300.65(c)(2), which requires that GHLs for IPHC regulatory areas 2C and 3A be specified by NMFS and announced by publication in the Federal Register no later than 30 days after receiving information from the IPHC. The IPHC annually establishes the constant exploitation yield (CEY) for halibut in IPHC regulatory areas 2C and 3A. Regulations at § 300.65(c)(1) establish the GHLs based on the CEY that is established annually by the IPHC. The CEY established by the IPHC for 2007 in Areas 2C and 3A result in GHLs of 1,432,000 lb (649.5 t), and 3,650,000 lb (1,655.6 t), respectively.

This notice does not require any regulatory action by NMFS and is intended to serve as a notice of the GHLs in Areas 2C and 3A for 2007. If a GHL is exceeded in 2007, NMFS will notify the North Pacific Fishery Management Council (Council) in writing within 30 days of receipt of that information. The Council is not required to take action, but may recommend additional management measures after receiving notification that a GHL has been exceeded.

Classification

This notice does not require any additional regulatory action by NMFS and does not impose any additional restrictions on harvests by the charter fishery.

If a GHL is exceeded in any year, the Council would be notified, but would not be required to take action. This process of notification is intended to provide the Council with information about the level of Pacific halibut harvest by the charter fishery in a given year and could prompt future action.

Authority: 16 U.S.C. 773 et seq.

Dated: March 12, 2007.
Alan D. Risenhoover,
Director, Office of Sustainable Fisheries, National Marine Fisheries Service.

[FR Doc. E7-4887 Filed 3-16-07; 8:45 am]

BILLING CODE 3510-22-S